DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, DOT.

ACTION: Unified Agenda of Federal Regulatory and Deregulatory Actions (Regulatory Agenda).

SUMMARY: The Regulatory and Deregulatory Agenda is a semiannual summary of all current and projected rulemakings, reviews of existing regulations, and completed actions of the Department. The intent of the Agenda is to provide the public with information about the Department of Transportation's regulatory activity planned for the next 12 months. It is expected that this information will enable the public to more effectively participate in the Department's regulatory process. The public is also invited to submit comments on any aspect of this Agenda.

FOR FURTHER INFORMATION CONTACT:

General

You should direct all comments and inquiries on the Agenda in general to Jonathan Moss, Assistant General Counsel for Regulation, Office of General Counsel, Department of Transportation, 1200 New Jersey Avenue SE, Washington, DC 20590; (202) 366-4723.

Specific

You should direct all comments and inquiries on particular items in the Agenda to the individual listed for the regulation or the general rulemaking contact person for the operating administration in appendix B.

Table of Contents

Supplementary Information

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

A primary goal of the Department of Transportation (Department or DOT) is to allow the public to understand how we make decisions, which necessarily includes being transparent in the way we measure the risks, costs, and benefits of engaging in—or deciding not to engage in—a particular regulatory action. As such, it is our policy to provide an opportunity for public comment on such actions to all interested stakeholders. Above all, transparency and meaningful engagement mandate that regulations should be straightforward, clear, and accessible to any interested stakeholder. The Department also embraces the notion that there should be no more regulations than necessary. We emphasize consideration of non-regulatory solutions and have rigorous processes in place for continual reassessment of existing regulations. These processes provide that regulations and other agency actions are periodically reviewed and, if appropriate, are revised to ensure that they continue to meet the needs for which they were originally designed, and that they remain cost-effective and cost-justified.

To help the Department achieve its goals and in accordance with Executive Order (E.O.) 12866, “Regulatory Planning and Review,” (58 FR 51735; Oct. 4, 1993) and the Department's Regulatory Policies and Procedures (44 FR 11034; Feb. 26, 1979), the Department prepares a semiannual regulatory and deregulatory agenda. It summarizes all current and projected rulemakings, reviews of existing regulations, and completed actions of the Department. These are matters on which action has begun or is projected during the next 12 months or for which action has been completed since the last Agenda.

In addition, this Agenda was prepared in accordance with three Executive Orders issued by President Trump, which directed agencies to further scrutinize their regulations and other agency actions. On January 30, 2017, President Trump signed Executive Order 13771, Reducing Regulation and Controlling Regulatory Costs. Under section 2(a) of the Executive order, unless prohibited by law, whenever an executive department or agency publicly proposes for notice and comment or otherwise promulgates a new regulation, it must identify at least two existing regulations to be repealed. On February 24, 2017, President Trump signed Executive Order 13777, Enforcing the Regulatory Reform Agenda. Under this Executive order, each agency must establish a Regulatory Reform Task Force (RRTF) to evaluate existing regulations, and make recommendations for their repeal, replacement, or modification. On March 28, 2017, President Trump signed Executive Order 13783, Promoting Energy Independence and Economic Growth, requiring agencies to review all existing regulations, orders, guidance documents, policies, and other similar agency actions that potentially burden the development or use of domestically produced energy resources, with particular attention to oil, natural gas, coal, and nuclear energy resources.

In response to the mandate in Executive Order 13777, the Department formed an RRTF consisting of senior career and non-career leaders, which has already conducted extensive reviews of existing regulations, and identified a number of rules to be repealed, replaced, or modified. As a result of the RRTF's work, since January 2017, the Department has issued deregulatory actions that reduce regulatory costs on the public by at least $882 million (in net present value cost savings). Even when the costs of significant regulatory actions are factored in, the Department's deregulatory actions in FY 2018 will still result in over $500 million in net cost savings (in net present value). With the RRTF's assistance, the Department has achieved these cost savings in a manner that is fully consistent with enhancing safety. For example, in March 2018, the FAA promulgated a rule titled Rotorcraft Pilot Compartment View, which will reduce the number of tests for nighttime operations, after the Agency carefully considered the safety data and determined the tests were unnecessary.

The Department has also significantly increased the number of deregulatory actions it is pursuing. Today, DOT is pursuing over 120 deregulatory rulemakings, up from just 16 in the fall of 2016.

While each regulatory and deregulatory action is evaluated on its own merits, the RRTF augments the Department's consideration of prospective rulemakings by conducting monthly reviews across all OAs to identify appropriate deregulatory actions. The RRTF also works to ensure that any new regulatory action is rigorously vetted and non-regulatory alternatives are considered. Further information on the RRTF can be found online at: https://www.transportation.gov/regulations/regulatory-reform-task-force-report.

The Department's ongoing regulatory effort is guided by four fundamental principles—safety, innovation, enabling investment in infrastructure, and reducing unnecessary regulatory burdens. These priorities are grounded in our national interest in maintaining U.S. global leadership in safety, innovation, and economic growth. To accomplish our regulatory goals, we must create a regulatory environment that fosters growth in new and innovative industries without burdening them with unnecessary restrictions. At the same time, safety remains our highest priority; we must remain focused on managing safety risks and being sure that we do not regress from the successes already achieved. Our planned regulatory actions reflect a careful balance that emphasizes the Department's priority in fostering innovation while at the same time meeting the challenges of maintaining a safe, reliable, and sustainable transportation system.

For example, the National Highway Traffic Safety Administration (NHTSA) is working on reducing regulatory barriers to technology innovation, including the integration of automated vehicles. Automated vehicles are expected to increase safety significantly by reducing the likelihood of human error when driving, which today accounts for the overwhelming majority of accidents on our nation's roadways. NHTSA plans to issue regulatory actions that: (1) Design a pilot program for vehicles that may not meet FMVSS; (2) allow for permanent updates to current FMVSS reflecting new technology; and (3) allow for updates to NHTSA's regulations outlining the administrative processes for petitioning the agency for exemptions, rulemakings, and reconsiderations. Similarly, the Federal Aviation Administration (FAA) is working to enable, safely and efficiently, the integration of unmanned aircraft systems (UAS) into the National Airspace System. UAS are expected to continue to drive innovation and increase safety as operators and manufacturers find new and inventive uses for UAS. For instance, UAS are poised to assist human operators with a number of different mission sets such as inspection of critical infrastructure and search and rescue, enabling beneficial and lifesaving activities that would otherwise be difficult or even impossible for a human to accomplish unassisted. The Department has regulatory efforts underway to further integrate UAS safely and efficiently.

The Department is working on several rulemakings to facilitate a major transformation of our national space program from one in which the federal government has a primary role to one in which private industry drives growth in innovation and launches. The Department is also currently working on a rulemaking to facilitate a major transformation of our national space program that will enable private industry to drive growth in innovation and launches. The FAA is proposing a rule that will fundamentally change how FAA licenses launches and reentries of commercial space vehicles moving from prescriptive requirements to a performance based approach.

Explanation of Information in the Agenda

An Office of Management and Budget memorandum, dated June 18, 2018, establishes the format for this Agenda.

First, the Agenda is divided by initiating offices. Then the Agenda is divided into five categories: (1) Prerule stage; (2) proposed rule stage; (3) final rule stage; (4) long-term actions; and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; (15) the action's designation under Executive Order 13771 explaining whether the action will have a regulatory or deregulatory effect; and (16) whether the action is major under the congressional review provisions of the Small Business Regulatory Enforcement Fairness Act.

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

The internet is the basic means for disseminating the Unified Agenda. The complete Unified Agenda is available online at www.reginfo.gov in a format that offers users a greatly enhanced ability to obtain information from the Agenda database. A portion of the Agenda is published in the Federal Register, however, because the Regulatory Flexibility Act (5 U.S.C. 602) mandates publication for the regulatory flexibility agenda. Accordingly, DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the internet.

Request for Comments

General

Our Agenda is intended primarily for the use of the public. Since its inception, we have made modifications and refinements that we believe provide the public with more helpful information, as well as making the Agenda easier to use. We would like you, the public, to make suggestions or comments on how the Agenda could be further improved.

Reviews

We also seek your suggestions on which of our existing regulations you believe need to be reviewed to determine whether they should be revised or revoked. We particularly draw your attention to the Department's review plan in appendix D.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require us to develop an account process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of Government or Indian tribes. Therefore, we encourage State and local Governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department with regard to any specific item on the Agenda. Regulatory action, in addition to the items listed, is not precluded.

Dated: July 27, 2018.
Elaine L. Chao,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the internet at http://www.regulations.gov. See appendix C for more information.

Appendix B—General Rulemaking Contact Persons

The following is a list of persons who can be contacted within the Department for general information concerning the rulemaking process within the various operating administrations.

FAA—Lirio Liu, Director, Office of Rulemaking, 800 Independence Avenue SW, Washington, DC 20591; telephone (202) 267-7833.

FHWA—Jennifer Outhouse, Office of Chief Counsel, 1200 New Jersey Avenue SE, Washington, DC 20590; telephone (202) 366-0761.

FMCSA—Steven J. LaFreniere, Regulatory Ombudsman, 1200 New Jersey Avenue SE, Washington, DC 20590; telephone (202) 366-0596.

NHTSA—Steve Wood, Office of Chief Counsel, 1200 New Jersey Avenue SE, Washington, DC 20590; telephone (202) 366-2992.

FRA—Kathryn Gresham, Office of Chief Counsel, 1200 New Jersey Avenue SE, Washington, DC 20590; telephone (202) 493-6063.

FTA—Chaya Koffman, Office of Chief Counsel, 1200 New Jersey Avenue SE, Washington, DC 20590; telephone (202) 366-3101.

SLSDC—Carrie Mann Lavigne, Chief Counsel, 180 Andrews Street, Massena, NY 13662; telephone (315) 764-3200.

PHMSA—Stephen Gordon, Office of Chief Counsel, 1200 New Jersey Avenue SE, Washington, DC 20590; telephone (202) 366-1101.

MARAD—Gabriel Chavez, Office of Chief Counsel, Maritime Administration, 1200 New Jersey Avenue SE, Washington, DC 20590; telephone (202) 366-2621.

OST—Jonathan Moss, Assistant General Counsel for Regulation, 1200 New Jersey Avenue SE, Washington, DC 20590; telephone (202) 366-4723.

Appendix C—Public Rulemaking Dockets

All comments via the internet are submitted through the Federal Docket Management System (FDMS) at the following address: http://www.regulations.gov. The FDMS allows the public to search, view, download, and comment on all Federal agency rulemaking documents in one central online system. The above referenced internet address also allows the public to sign up to receive notification when certain documents are placed in the dockets.

The public also may review regulatory dockets at or deliver comments on proposed rulemakings to the Dockets Office at 1200 New Jersey Avenue SE, Room W12-140, Washington, DC 20590, 1-800-647-5527. Working Hours: 9:00 a.m. to 5:00 p.m.

Appendix D—Review Plans for Section 610 and Other Requirements

Part I—The Plan

General

The Department of Transportation has long recognized the importance of regularly reviewing its existing regulations to determine whether they need to be revised or revoked. Our Regulatory Policies and Procedures require such reviews. We also have responsibilities under Executive Order 12866, “Regulatory Planning and Review,” Executive Order 13563, “Improving Regulation and Regulatory Review,” 76 FR 3821 (January 18, 2011), Executive Order 13771 “Reducing Regulation and Controlling Regulatory Costs,” Executive Order 13777, “Enforcing the Regulatory Agenda,” and section 610 of the Regulatory Flexibility Act to conduct such reviews. This includes the designation of a Regulatory Reform Officer, the establishment of a Regulatory Reform Task Force, and the use of plain language techniques in new rules and considering its use in existing rules when we have the opportunity and resources to revise them. We are committed to continuing our reviews of existing rules and, if it is needed, will initiate rulemaking actions based on these reviews. The Department will begin a new 10-year review cycle with the Fall 2018 Agenda.

Section 610 Review Plan

Section 610 requires that we conduct reviews of rules that: (1) Have been published within the last 10 years; and (2) have a “significant economic impact on a substantial number of small entities” (SEISNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Most agencies provide historical information about the reviews that have occurred over the past 10 years. Thus, Year 1 (2018) begins in the fall of 2018 and ends in the fall of 2019; Year 2 (2019) begins in the fall of 2019 and ends in the fall of 2020, and so on. The exception to this general rule is the FAA, which provides information about the reviews it completed for this year and prospective information about the reviews it intends to complete in the next 10 years. Thus, for FAA Year 1 (2017) begins in the fall of 2017 and ends in the fall of 2018; Year 2 (2018) begins in the fall of 2018 and ends in the fall of 2019, and so on. We request public comment on the timing of the reviews. For example, is there a reason for scheduling an analysis and review for a particular rule earlier than we have? Any comments concerning the plan or analyses should be submitted to the regulatory contacts listed in appendix B, General Rulemaking Contact Persons.

Section 610 Review

The agency will analyze each of the rules in a given year's group to determine whether any rule has a SEISNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to us early in the analysis year concerning the small entity impact of the rules to help us in making our determinations.

In each fall Agenda, the agency will publish the results of the analyses it has completed during the previous year. For rules that had a negative finding on SEISNOSE, we will give a short explanation (e.g., “these rules only establish petition processes that have no cost impact” or “these rules do not apply to any small entities”). For parts, subparts, or other discrete sections of rules that do have a SEISNOSE, we will announce that we will be conducting a formal section 610 review during the following 12 months. At this stage, we will add an entry to the Agenda in the pre-rulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

—
Year | Regulations to be reviewed | Analysis year | Review year
1 | 49 CFR parts 91 through 99 14 CFR parts 200 through 212 48 CFR parts 1201 through 1224 | 2018 | 2019
2 | 48 CFR parts 1227 through 1253 and new parts and subparts | 2019 | 2020
3 | 14 CFR parts 213 through 232 | 2020 | 2021
4 | 14 CFR parts 234 through 254 | 2021 | 2022
5 | 14 CFR parts 255 through 298 and 49 CFR part 40 | 2022 | 2023
6 | 14 CFR parts 300 through 373 | 2023 | 2024
7 | 14 CFR parts 374 through 398 | 2024 | 2025
8 | 14 CFR part 399 and 49 CFR parts 1 through 15 | 2025 | 2026
9 | 49 CFR parts 17 through 28 | 2026 | 2027
10 | 49 CFR parts 29 through 39 and parts 41 through 89 | 2027 | 2028

Year 10 (2017) List of Rules Analyzed and a Summary of Results

49 CFR part 30—Denial of Public Works Contracts to Suppliers of Goods and Services of Countries That Deny Procurement Market Access to U.S. Contractors

• Section 610: OST conducted a Section 610 review of this part and found no SEISNOSE.

• General: No changes are needed. These regulations are cost effective and impose the least burden. OST's plain language review of these rules indicates no need for substantial revision.

49 CFR part 31—Program Fraud Civil Remedies

• Section 610: OST conducted a review of this part and found no SEISNOSE.

• General: Changes are needed to this part to remove obsolete references; update the Civil Penalties in accordance with the Federal Civil Penalties Inflation Adjustment Act Improvements Act of 2015 (Pub. L. 114-74, section 701), including adding reference to the Act in the footnotes to append to the amounts of those penalties; correct and/or remove certain phrases and terms throughout the part; and to clarify the meaning of “designated by the party's representative” found in 31.33(f)(2)(ii). OST's plain language review of this part indicates no need for substantial revision.

49 CFR part 32—Governmentwide Requirements for Drug-Free Workplace (Financial Assistance)

• Section 610: OST conducted review of this part and found no SEISNOSE.

• General: No changes are needed to this part of the regulation. OST's plain language review of this part indicates no need for substantial revision.

49 CFR part 33—Transportation Priorities and Allocation System

• Section 610: OST conducted review of this part and found no SEISNOSE.

• General: Review of this part indicates that Schedule 1 of the appendix needs to be updated to include current approved programs. Additionally, Form OST F 1254—Appendix I needs to be updated with an OMB Control Number. OST's plain language review of this part indicates no need for substantial revision.

49 CFR part 37—Transportation Services for Individuals With Disabilities (ADA)

• Section 610: OST conducted a Section 610 review of this part and found no SEISNOSE.

• General: No changes are needed. These regulations are cost effective and impose the least burden. OST's plain language review of these rules indicates no need for substantial revision.

49 CFR part 38—Americans With Disabilities Act (ADA) Accessibility Specifications for Transportation Vehicles

• Section 610: OST conducted a Section 610 review of this part and found no SEISNOSE.

• General: No changes are needed. These regulations are cost effective and impose the least burden. OST's plain language review of these rules indicates no need for substantial revision.

49 CFR part 39—Transportation for Individuals With Disabilities: Passenger Vessels

• Section 610: OST conducted a Section 610 review of this part and found no SEISNOSE.

• General: No changes are needed. These regulations are cost effective and impose the least burden. OST's plain language review of these rules indicates no need for substantial revision.

49 CFR part 41—Seismic Safety

• Section 610: OST conducted review of this part and found no SEISNOSE.

• General: Review of this part indicates that this part needs to be updated for consistency with Executive Order 13717, February 2, 2016, which repealed the underlying Executive Order 12699. OST's plain language review of this part indicates no need for substantial revision.

49 CFR part 71—Standard Time Zone Boundaries

• Section 610: No SEISNOSE. No small entities are affected.

• General: No changes are needed. These regulations are cost effective and impose the least burden. OST's plain language review of these rules indicates no need for substantial revision.

49 CFR part 79—Medals of Honor

• Section 610: OST conducted a Section 610 review of this part and found no SEISNOSE.

• General: No changes are needed. These regulations are cost effective and impose the least burden. OST's plain language review of these rules indicates no need for substantial revision.

49 CFR part 80—Credit Assistance for Surface Transportation Projects

• Section 610: OST conducted a section 610 review of this part and found no SEISNOSE.

• General: No changes are needed. This regulation is cost effective and imposes the least burden. OST's plain language review of this rule indicates no need for substantial revision.

49 CFR part 89—Implementation of Federal Claims Collection Act

• Section 610: OST conducted review of this part and found no SEISNOSE.

• General: Review of this part outlined that numerous cross-references to statutes and regulations should be updated to ensure the references are current and that the DOT's regulations are consistent with those references; this includes removing any obsolete references to regulations or statutes that have been rescinded. OST's plain language review of this part indicates no need for substantial revision.

Year 1 (Fall 2018) List of Rules That Will Be Analyzed During the Next Year

49 CFR part 91—International Air Transportation Fair Competitive Practices

49 CFR part 92—Recovering Debts to the United States by Salary Offset

49 CFR part 93—Aircraft Allocation

49 CFR part 98—Enforcement of Restrictions on Post-Employment Activities

49 CFR part 99—Employee Responsibilities and Conduct

14 CFR part 200—Definitions and Instructions

14 CFR part 201—Air Carrier Authority under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

48 CFR part 1201—Federal Acquisition Regulations System

48 CFR part 1202—Definitions of Words and Terms

48 CFR part 1203—Improper Business Practices and Personal Conflicts of Interest

48 CFR part 1204—Administrative Matters

48 CFR part 1205—Publicizing Contract Actions

48 CFR part 1206—Competition Requirements

48 CFR part 1207—Acquisition Planning

48 CFR part 1208-1210—[Reserved]

48 CFR part 1211—Describing Agency Needs

48 CFR part 1212—[Reserved]

48 CFR part 1213—Simplified Acquisition Procedures

48 CFR part 1214—Sealed Bidding

48 CFR part 1215—Contracting by Negotiation

48 CFR part 1216—Types of Contracts

48 CFR part 1217—Special Contracting Methods

48 CFR part 1218—[Reserved]

48 CFR part 1219—Small Business Programs

48 CFR part 1220-1221—[Reserved]

48 CFR part 1222—Application of Labor Laws to Government Acquisitions

48 CFR part 1223—Environment, Energy and Water Efficiency, Renewable Energy Technologies, Occupational Safety, and Drug-Free Workplace

48 CFR part 1224—Protection of Privacy and Freedom of Information

Federal Aviation Administration

Section 610 and Other Reviews

The Federal Aviation Administration (FAA) has elected to use the two-step, two-year process used by most Department of Transportation (DOT) modes in past plans. As such, the FAA has divided its rules into 10 groups as displayed in the table below. During the first year (the “analysis year”), all rules published during the previous 10 years within a 10% block of the regulations will be analyzed to identify those with a significant economic impact on a substantial number of small entities (SEISNOSE). During the second year (the “review year”), each rule identified in the analysis year as having a SEISNOSE will be reviewed in accordance with Section 610(b) to determine if it should be continued without change or changed to minimize impact on small entities. Results of those reviews will be published in the DOT Semiannual Regulatory Agenda.

Year | Regulations to be reviewed | Analysis year | Review year
1 | 14 CFR parts 119 through 129 and parts 150 through 156 | 2018 | 2019
2 | 14 CFR parts 133 through 139 and parts 157 through 169 | 2019 | 2020
3 | 14 CFR parts 141 through 147 and parts 170 through 187 | 2020 | 2021
4 | 14 CFR parts 189 through 198 and parts 1 through 16 | 2021 | 2022
5 | 14 CFR parts 17 through 33 | 2022 | 2023
6 | 14 CFR parts 34 through 39 and parts 400 through 405 | 2023 | 2024
7 | 14 CFR parts 43 through 49 and parts 406 through 415 | 2024 | 2025
8 | 14 CFR parts 60 through 77 | 2025 | 2026
9 | 14 CFR parts 91 through 105 | 2026 | 2027
10 | 14 CFR parts 417 through 460 | 2027 | 2028

Background on the Regulatory Flexibility Act

The Regulatory Flexibility Act of 1980 as amended (RFA), (sections 601 through 612 of title 5, United States Code (5 U.S.C.)) requires Federal regulatory agencies to analyze all proposed and final rules to determine their economic impact on small entities, which includes small businesses, small organizations, and small governmental jurisdictions. The primary purpose of the RFA is to establish as a principle of regulatory issuance that Federal agencies endeavor, consistent with the objectives of the rule and applicable statutes, to fit regulatory and informational requirements to the scale of entities subject to the regulation. The FAA performed the required RFA analyses of each final rulemaking action and amendment it has initiated since enactment of the RFA in 1980.

Section 610 of 5 U.S.C. requires government agencies to periodically review all regulations that will have a SEISNOSE. The FAA must analyze each rule within 10 years of its publication date.

Defining SEISNOSE

The RFA does not define “significant economic impact.” Therefore, there is no clear rule or number to determine when a significant economic impact occurs. However, the Small Business Administration (SBA) states that significance should be determined by considering the size of the business, the size of the competitor's business, and the impact the same regulation has on larger competitors.

Likewise, the RFA does not define “substantial number.” However, the legislative history of the RFA suggests that a substantial number must be at least one but does not need to be an overwhelming percentage such as more than half. The SBA states that the substantiality of the number of small businesses affected should be determined on an industry-specific basis.

This analysis consisted of the following three steps:

1. Review of the number of small entities affected by the amendments to parts 119 through 129 and parts 150 through 156.

2. Identification and analysis of all amendments to parts 119 through 129 and parts 150 through 156 since 2008 to determine whether any still have or now have a SEISNOSE.

3. Review of the FAA's regulatory flexibility assessment of each amendment performed as required by the RFA.

Year 2 (2019) List of Rules To Be Analyzed the Next Year

14 CFR part 133—Rotorcraft External-Load Operations

14 CFR part 135—Operating Requirements: Commuter and On Demand Operations and Rules Governing Persons on Board Such Aircraft

14 CFR part 136—Commercial Air Tours and National Parks Air Tour Management

14 CFR part 137—Agricultural Aircraft Operations

14 CFR part 139—Certification of Airports

14 CFR part 157—Notice of Construction, Alteration, Activation, and Deactivation of Airports

14 CFR part 158—Passenger Facility Charges

14 CFR part 161—Notice and Approval of Airport Noise and Access Restrictions

14 CFR part 169—Expenditure of Federal Funds for Nonmilitary Airports or Air Navigation Facilities Thereon

Year 1 (2018) List of Rules Analyzed and Summary of Results

14 CFR part 119—Certification: Air Carriers and Commercial Operators

• Section 610: The agency conducted a Section 610 review of this part and found no SEISNOSE.

• General: No changes are needed. These regulations are cost effective and impose the least burden.

14 CFR part 120—Drug and Alcohol Testing Programs

• Section 610: The agency conducted a Section 610 review of this part and found Docket No. FAA-2008-0937, 74 FR 22653, May 14, 2009, as amended by Amendment 120-2, 79 FR 9973, Feb. 21, 2014 of section 120.105, Employees Who Must Be Tested, and Docket No. FAA-2008-0937, 74 FR 22653, May 14, 2009, as amended by Amendment 120-2, 79 FR 9973, Feb. 21, 2014 of section 120.215, Covered Employees in CFR 120, trigger SEISNOSE within the meaning of the RFA.

• General: No revisions are needed. The FAA has considered a number of alternatives and has taken steps to minimize the impact on small entities in attempts to lower compliance costs for small entities, but could not go forward without compromising the safety for the industry.

14 CFR part 121—Operating Requirements: Domestic, Flag, and Supplemental Operations

• Section 610: The agency conducted a Section 610 review of this part and found Docket No. FAA-2008-0677, 78 FR 67836, Nov. 12, 2013; Docket No. 9509, 35 FR 90, Jan. 3, 1970, as amended by Amendment 121-366, 78 FR 67836, Nov. 12, 2013; Docket No. FAA-2008-0677, 78 FR 67837, Nov. 12, 2013; Amendment 121-366, 78 FR 67837, Nov. 12, 2013; 62 FR 3739, Jan. 24, 1997, as amended by Amendment 121-366, 78 FR 67838, Nov. 12, 2013; Docket No. FAA-2010-0100, 78 FR 42377, July 15, 2013, as amended by Amendment 121-366, 78 FR 67839, Nov. 12, 2013; Amendment 121-357, 77 FR 402, Jan. 4, 2012; Docket No. FAA-2009-1093, 77 FR 402, Jan. 4, 2012; Docket No. FAA-2002-12461, 71 FR 63640, Oct. 30, 2006, as amended by Amendment 121-365, 78 FR 42379, July 15, 2013 in CFR 121 trigger SEISNOSE within the meaning of the RFA.

• General: No revisions are needed. The FAA has considered a number of alternatives and has taken steps to minimize the impact on small entities in attempts to lower compliance costs for small entities, but could not go forward without compromising the safety for the industry.

14 CFR part 125—Certification and Operations: Airplanes Having a Seating Capacity of 20 or More Passengers or a Maximum Payload Capacity of 6,000 Pounds or More, and Rules Governing Persons on Board Such Aircraft

• Section 610:

• General:

14 CFR part 129—Operations: Foreign Air Carriers and Foreign Operators of U.S.-Registered Aircraft Engaged in Common Carriage

• Section 610:

• General:

14 CFR part 150—Airport Noise Compatibility Planning

• Section 610: The agency conducted a Section 610 review of this part and found no SEISNOSE.

• General: No changes are needed. These regulations are cost effective and impose the least burden.

14 CFR part 151—Federal Aid to Airports

• Section 610: The agency conducted a Section 610 review of this part and found no SEISNOSE.

• General: No changes are needed. These regulations are cost effective and impose the least burden.

14 FR part 152—Airport Aid Program

• Section 610: The agency conducted a Section 610 review of this part and found no SEISNOSE.

• General: No changes are needed. These regulations are cost effective and impose the least burden.

14 CFR part 153—Airport Operations

• Section 610: The agency conducted a Section 610 review of this part and found no SEISNOSE.

• General: No changes are needed. These regulations are cost effective and impose the least burden.

14 CFR part 155—Release of Airport Property from Surplus Property Disposal Restrictions

• Section 610: The agency conducted a Section 610 review of this part and found no SEISNOSE.

• General: No changes are needed. These regulations are cost effective and impose the least burden.

14 CFR part 156—State Block Grant Pilot Program

• Section 610: The agency conducted a Section 610 review of this part and found no SEISNOSE.

• General: No changes are needed. These regulations are cost effective and impose the least burden.

Federal Highway Administration

Section 610 and Other Reviews

Year | Regulations to be reviewed | Analysis year | Review year
1 | None | 2018 | 2019
2 | 23 CFR parts 1 to 260 | 2019 | 2020
3 | 23 CFR parts 420 to 470 | 2020 | 2021
4 | 23 CFR part 500 | 2021 | 2022
5 | 23 CFR parts 620 to 637 | 2022 | 2023
6 | 23 CFR parts 645 to 669 | 2023 | 2024
7 | 23 CFR parts 710 to 924 | 2024 | 2025
8 | 23 CFR parts 940 to 973 | 2025 | 2026
9 | 23 CFR parts 1200 to 1252 | 2026 | 2027
10 | New parts and subparts | 2027 | 2028

Federal-Aid Highway Program

The Federal Highway Administration (FHWA) has adopted regulations in title 23 of the CFR, chapter I, related to the Federal-Aid Highway Program. These regulations implement and carry out the provisions of Federal law relating to the administration of Federal aid for highways. The primary law authorizing Federal aid for highways is chapter I of title 23 of the U.S.C. 145, which expressly provides for a federally assisted State program. For this reason, the regulations adopted by the FHWA in title 23 of the CFR primarily relate to the requirements that States must meet to receive Federal funds for construction and other work related to highways. Because the regulations in title 23 primarily relate to States, which are not defined as small entities under the Regulatory Flexibility Act, the FHWA believes that its regulations in title 23 do not have a significant economic impact on a substantial number of small entities. The FHWA solicits public comment on this preliminary conclusion.

Year 10 (Fall 2017) List of Rules Analyzed and a Summary of Results

23 CFR part 490—National Performance Management Measures

• Section 610: No SEISNOSE. No small entities are affected.

• General: No changes are needed. These regulations are cost effective and impose the least burden. FHWA's plain language review of these rules indicates no need for substantial revision. The FHWA recently repealed one of the original performance measures on May 31, 2018, at 83 FR 24920.

23 CFR part 505—Projects of National and Regional Significance Evaluation and Rating

• Section 610: No SEISNOSE. No small entities are affected.

• General: No changes are needed. These regulations are cost effective and impose the least burden. FHWA's plain language review of these rules indicates no need for substantial revision.

23 FR part 511—Real-Time System Management Information Program

• Section 610: No SEISNOSE. No small entities are affected.

• General: No changes are needed. These regulations are cost effective and impose the least burden. FHWA's plain language review of these rules indicates no need for substantial revision.

23 CFR part 515—Asset Management Plans

• Section 610: No SEISNOSE. No small entities are affected.

• General: No changes are needed. These regulations are cost effective and impose the least burden. FHWA's plain language review of these rules indicates no need for substantial revision.

23 CFR part 635—Subpart E—Construction Manager/General Contractor (CM/GC) Contracting

• Section 610: No SEISNOSE. No small entities are affected.

• General: No changes are needed. These regulations are cost effective and impose the least burden. FHWA's plain language review of these rules indicates no need for substantial revision.

23 CFR part 650—Subpart E—National Tunnel Inspection Standards

• Section 610: No SEISNOSE. No small entities are affected.

• General: No changes are needed. These regulations are cost effective and impose the least burden. FHWA's plain language review of these rules indicates no need for substantial revision.

23 CFR part 667—Periodic Evaluation of Facilities Repeatedly Requiring Repair and Reconstruction Due to Emergency Events

• Section 610: No SEISNOSE. No small entities are affected.

• General: No changes are needed. These regulations are cost effective and impose the least burden. FHWA's plain language review of these rules indicates no need for substantial revision.

23 CFR part 950—Electronic Toll Collection

• Section 610: No SEISNOSE. No small entities are affected.

• General: No changes are needed. These regulations are cost effective and impose the least burden. FHWA's plain language review of these rules indicates no need for substantial revision.

Year 1 (Fall 2018) List of Rules That Will Be Analyzed During the Next Year

None.

Federal Motor Carrier Safety Administration

Section 610 and Other Reviews

Year | Regulations to be reviewed | Analysis year | Review year
1 | 49 CFR parts 386 and 395 | 2018 | 2019
2 | 49 CFR part 385 | 2019 | 2020
3 | 49 CFR part 382 | 2020 | 2021
4 | 49 CFR parts 380 and 383 | 2021 | 2022
5 | 49 CFR part 387 | 2022 | 2023
6 | 49 CFR part 398 | 2023 | 2024
7 | 49 CFR part 392 | 2024 | 2025
8 | 49 CFR part 375 | 2025 | 2026
9 | 49 CFR part 367 | 2026 | 2027
10 | 49 CFR part 395 | 2027 | 2028

Year 1 (Fall 2018) List of Rules That Will Be Analyzed During the Next Year

49 CFR part 395—Hours of Service (HOS) of Drivers

(Note: The analysis of this regulation is continued from year 10 (fall 2017) to year 1 (fall 2018) of the new review schedule.

• Section 610: There is a SEIOSNOSE. The Federal HOS regulations promote safe driving of commercial motor vehicles by limiting on-duty driving time, thereby improving the likelihood that drivers have adequate time for restorative rest. Although this rule drives a SEISNOSE, it also drives significant benefits to small business. Tangible benefits include streamlined operations, reduced operational cost, maximized productivity, lower insurance, improved vehicle diagnostics, reduced administrative burden, and increased profits.

• General: The regulatory value of restricting fatigue-related operations will save lives and reduce injuries. These regulations are written consistent with plain language guidelines, and uses clear and unambiguous language. The Agency is currently considering changes to the hours of service regulations that would improve operational flexibilities for motor carriers without a deleterious effect on safety.

49 CFR part 386—Rules of practice for motor carrier, intermodal equipment provider, broker, freight forwarder, and hazardous materials proceedings

National Highway Traffic Safety Administration

Section 610 and Other Reviews

Year | Regulations to be reviewed | Analysis year | Review year
1 | 49 CFR parts 571.214 through 571.219, except 571.217 49 FR parts 591 through 595 and new parts and subparts | 2018 | 2019
2 | 23 CFR parts 1200 and 1300 49 CFR parts 571.223 through 571.500, 575 and 579.23 | 2019 | 2020
3 | 49 CFR parts 501 through 526 and 571.213 | 2020 | 2021
4 | 49 CFR parts 571.131, 571.217, 571.220, 571.221, and 571.222 | 2021 | 2022
5 | 49 CFR parts 571.101 through 571.110, and 571.135, 571.136, 571.138 and 571.139 | 2022 | 2023
6 | 49 CFR parts 571.141, 529 through 578, except parts 571 and 575 | 2023 | 2024
7 | 49 CFR parts 571.111 through 571.129 and 580 through 588 | 2024 | 2025
8 | 49 parts CFR 571.201 through 571.212 | 2025 | 2026
9 | 49 parts CFR 571.214 through 571.219, except 571.217 | 2026 | 2027
10 | 49 CFR parts 591 through 595 and new parts and subparts | 2027 | 2028

Year 1 (Fall 2018) List of Rules That Will Be Analyzed During the Next Year

49 CFR part 571.214—Side Impact Protection

49 CFR part 571.215—[Reserved]

49 CFR part 571.216—Roof Crush Resistance; Applicable Unless a Vehicle Is Certified to 571.216a

49 CFR part 571.216a—Roof Crush Resistance; Upgraded Standard

49 CFR part 571.218—Motorcycle Helmets

49 CFR part 571.219—Windshield Zone Intrusion

49 CFR part 591—Importation of Vehicles and Equipment Subject to Federal Safety, Bumper and Theft Prevention Standards

49 CFR part 592—Registered Importers of Vehicles Not Originally Manufactured to Conform to the Federal Motor Vehicle Safety Standards

49 CFR part 593—Determinations That a Vehicle Not Originally Manufactured to Conform to the Federal Motor Vehicle Safety Standards is Eligible for Importation

49 CFR part 594—Schedule of Fees Authorized by 49 U.S.C. 30141

49 CFR part 595—Make Inoperative Exemptions

Federal Railroad Administration

Section 610 and Other Reviews

Year | Regulations to be reviewed | Analysis year | Review year
1 | 49 CFR parts 200, 207, 209, and 210 | 2018 | 2019
2 | 49 CFR parts 211, 212, 213, 214, and 215 | 2019 | 2020
3 | 49 CFR parts 216, 217, 218, 219, and 220 | 2020 | 2021
4 | 49 CFR parts 221, 222, 223, 224, and 225 | 2021 | 2022
5 | 49 CFR parts 227, 228, 229, 230, and 231 | 2022 | 2023
6 | 49 CFR parts 232, 233, 234, 235, and 236 | 2023 | 2024
7 | 49 CFR parts 237, 238, 249, 240, and 241 | 2024 | 2025
8 | 49 CFR parts 242, 243, 244, 250, and 256 | 2025 | 2026
9 | 49 CFR parts 261, 262, 264, 266, and 268 | 2026 | 2027
10 | 49 CFR parts 269, 270, and 272 | 2027 | 2028

Year 10 (Fall 2017) List of Rules Analyzed and a Summary of Results

49 FR part 213—Track Safety Standards

• Section 610: This rule appears to have a significant economic impact on a substantial number of small entities (SEISNOSE). These small entities are approximately 735 short line railroads. However, the FRA will conduct a formal review to identify whether opportunities may exist to reduce the burden on small railroads without compromising safety standards.

• General: The rule prescribes minimum safety requirements for railroad track that is part of the general railroad system of transportation. The objective of the rule is to enhance the safety of rail transportation, protecting both those traveling and working on the system and those off the system who might be adversely affected by a rail incident. FRA's plain language review of this rule indicates no need for substantial revision.

49 CFR part 220—Railroad Communications

• Section 610: This rule has significant economic impact on a substantial number of small entities. However, the actual burden on most of these railroads varies because of their different operating characteristics. Entities that are not subject to this rule include railroads that do not operate on the general railroad system of transportation. The communication requirements of this rule have been designed to minimize the impact on small railroads. For instance, while large railroads are required to have a working radio and wireless communication redundancy in every train, small railroads are only required to comply with this standard for trains used to transport passengers. However, the FRA will conduct a formal review to identify whether opportunities may exist to reduce the burden on small railroads without compromising safety standards.

• General: The rule prescribes minimum requirements governing the use of wireless communications in connection with railroad operations. Uniform standard communications procedures and requirements throughout the railroad industry are necessary to ensure the protection and safety of railroad employees and the general public, and to minimize the number of casualties. FRA's plain language review of this rule indicates no need for substantial revision.

49 CFR part 230—Steam Locomotive Inspection and Maintenance Records

• Section 610: There is no SEISNOSE.

• General: The rule prescribes minimum Federal safety standards of inspection and maintenance for all steam locomotive operated on railroads. These requirements are necessary to ensure the protection and safety of railroad employees and the general public and to minimize the number of casualties. FRA's plain language review of this rule indicates no need for substantial revision.

49 CFR part 232—Brake System Safety Standards for Freight and Other Non-Passenger Trains and Equipment; End of Train Devices

• Section 610: This rule has significant economic impact on a substantial number of small entities. About 700 small railroads are subject to this rule. However, the actual burden on most of these small entities varies depending on their operating characteristics. FRA is currently evaluating this rule to determine if changes need to be made because of technological developments in the systems affected by this rule.

• General: The rule prescribes minimum Federal safety standards for freight and other non-passenger train brake systems, as well as requirements for all trains that use end-of-train devices. This rule governs critical safety systems of the train and therefore continues to be needed. To FRA's knowledge, it does not overlap or conflict with other rules. Furthermore, FRA's plain language review of this rule indicates no need for substantial revision.

49 CFR part 239—Passenger Train Emergency Preparedness

• Section 610: There is no SEISNOSE.

• General: The rule prescribes minimum Federal safety standards for the preparation, adoption and implementation of emergency preparedness plans by railroads. These requirements are necessary to ensure the protection and safety of railroad passengers and employees, as well as the general public, and to minimize the number of casualties. FRA's plain language review of this rule indicates no need for substantial revision.

49 CFR part 240—Qualification and Certification of Locomotive Engineers

• Section 610: There is no SEISNOSE.

• General: The purpose of this rule is to prescribes minimum Federal safety standards for the eligibility, training, testing, certification and monitoring of locomotive engineers. FRA's plain language review of this rule indicates no need of substantial revision.

Year 1 (Fall 2018) List of Rule(s) That Will Be Analyzed During Next Year

49 CFR part 200—Informal Rules of Practice for Passenger Service

49 CFR part 207—Railroad Police Officers

49 CFR part 209—Railroad Safety Enforcement Procedures

49 CFR part 210—Railroad Noise Emission Compliance

Federal Transit Administration

Section 610 and Other Reviews

The Regulatory Flexibility Act of 1980 (RFA), as amended (sections 601 through 612 of title 5, United States Code), requires Federal regulatory agencies to analyze all proposed and final rules to determine their economic impact on small entities, which include small businesses, organizations, and governmental jurisdictions. Section 610 requires government agencies to periodically review all regulations that will have a significant economic impact on a substantial number of small entities (SEISNOSE).

In complying with this section, the Federal Transit Administration (FTA) has elected to use the two-step, two-year process used by most Department of Transportation (DOT) modes. As such, FTA has divided its rules into 10 groups as displayed in the table below. During the analysis year, the listed rules will be analyzed to identify those with a SEISNOSE. During the review year, each rule identified in the analysis year as having a SEISNOSE will be reviewed in accordance with Section 610(b) to determine if it should be continued without change or changed to minimize the impact on small entities.

Year | Regulations to be reviewed | Analysis year | Review year
1 | 49 CFR parts 604, 605, and 624 | 2018 | 2019
2 | 49 CFR parts 609 and 640 | 2019 | 2020
3 | 49 CFR part 633 | 2020 | 2021
4 | 49 CFR part 611 | 2021 | 2022
5 | 49 CFR part 655 | 2022 | 2023
6 | 49 CFR parts 602 and 614 | 2023 | 2024
7 | 49 CFR parts 661 and 663 | 2024 | 2025
8 | 49 CFR parts 625, 630, and 665 | 2025 | 2026
9 | 49 CFR parts 613, 622, 670 and 674 | 2026 | 2027
10 | 49 CFR parts 650, 672 and 673 | 2027 | 2028

Year 10 (2018) List of Rules Analyzed and Summary of Results

49 CFR part 665—Bus Testing

• Section 610: Pursuant to Section 20014 of the Moving Ahead for Progress in the 21st Century Act (MAP-21), FTA issued a new pass/fail standard and new aggregated scoring system for buses and modified vans that are subject to FTA's bus testing program. FTA conducted a Section 610 review of part 665, as amended (81 FR 50637, August 1, 2016), and determined that it would not result in a SEISNOSE within the meaning of the RFA. In evaluating the likely effects of the rule, FTA acknowledged the compliance costs to bus manufacturers, some of whom may meet the definition of “small entity,” but noted that Congress authorized FTA to pay 80% of a bus manufacturer's testing fee, defraying the direct financial impact on these small entities.

• General: No changes are needed. The regulation implements the requirements of 49 U.S.C. 5318. FTA estimated the costs and projected benefits of the rule and believes it is cost-effective and imposes the least burden for statutory compliance. FTA's plain language review of this rule indicates no need for substantial revision.

Year 1 (2019) List of Rules To Be Analyzed the Next Year

49 CFR part 604—Charter Service

49 CFR part 605—School Bus Operations

49 CFR part 624—Clean Fuels Grant Program

Maritime Administration

Section 610 and Other Reviews

Year | Regulations to be reviewed | Analysis year | Review year
1 | 46 CFR parts 201 through 205, 46 CFR parts 315 through 340, 46 CFR part 345 through 347, and 46 CFR parts 381 and 382 | 2018 | 2019
2 | 46 CFR parts 221 through 232 | 2019 | 2020
3 | 46 CFR parts 249 through 296 | 2020 | 2021
4 | 46 CFR parts 221, 298, 308, and 309 | 2021 | 2022
5 | 46 CFR parts 307 through 309 | 2022 | 2023
6 | 46 CFR part 310 | 2023 | 2024
7 | 46 CFR parts 315 through 340 | 2024 | 2025
8 | 46 CFR parts 345 through 381 | 2025 | 2026
9 | 46 CFR parts 382 through 389 | 2026 | 2027
10 | 46 CFR parts 390 through 393 | 2027 | 2028

Year 10 (2017) List of Rules Analyzed and a Summary of Results

46 CFR part 390—Capital Construction Fund Implementing Regulations

• Section 610: There is no SEIOSNOSE.

• General: The purpose of this rule is to govern the capital construction fund program authorized by 46 U.S.C. 53501. The Agency has determined that the rule is cost-effective and imposes the least possible burden on small entities. MARAD's plain language review of this rule indicates no need of substantial revision.

46 CFR part 391—Federal Income Tax Aspects of the Capital Construction Fund.

• Section 610: There is no SEIOSNOSE.

• General: The purpose of this rule is to govern tax aspects of the capital construction fund program. The Agency has determined that the rule is cost-effective and imposes the least possible burden on small entities. MARAD's plain language review of this rule indicates no need of substantial revision.

46 CFR part 392—Reserved

46 CFR part 393—America's Marine Highway Program

• Section 610 review: There is no SEIOSNOSE.

• General: The Agency published a final rule to implement statutory updates and clarify applicant procedures. MARAD's plain language review of this rule indicated that a substantial revision to the part was needed.

Year 1 (2018) List of Rules That Will Be Analyzed During the Next Year

46 CFR part 201—Rules of Practice And Procedure

46 CFR part 202—Procedures relating to review by Secretary of Transportation of actions by Maritime Subsidy Board

46 CFR part 203—Procedures relating to conduct of certain hearings under the Merchant Marine Act, 1936, as amended

46 CFR part 204—Claims against the Maritime Administration under the Federal Tort Claims Act

46 CFR part 205—Audit Appeals; Policy and Procedure

46 CFR part 315—Agency Agreements and Appointment of Agents

46 CFR part 317—Bonding of Ship's Personnel

46 CFR part 324—Procedural Rules for Financial Transactions Under Agency Agreements

46 CFR part 325—Procedure to Be Followed by General Agents in Preparation of Invoices and Payment of Compensation Pursuant To Provisions of NSA Order No. 47

46 CFR part 326—Marine Protection and Indemnity Insurance Under Agreements with Agents

46 CFR part 327—Seamen's Claims; Administrative Action and Litigation

46 CFR part 328— Slop Chests

46 CFR part 329—Voyage Data

46 CFR part 330—Launch Services

46 CFR part 332—Repatriation of Seamen

46 CFR part 335—Authority and Responsibility of General Agents to Undertake Emergency Repairs in Foreign Ports

46 CFR part 336—Authority and Responsibility of General Agents to Undertake in Continental United States Ports Voyage Repairs and Service Equipment of Vessels Operated for the Account of The National Shipping Authority Under General Agency Agreement

46 CFR part 337—General Agent's Responsibility in Connection with Foreign Repair Custom's Entries

46 CFR part 338—Procedure for Accomplishment of Vessel Repairs Under National Shipping Authority Master Lump Sum Repair Contract—NSA-Lumpsumrep

46 CFR part 339—Procedure for Accomplishment of Ship Repairs Under National Shipping Authority Individual Contract for Minor Repairs—NSA-Worksmalrep

46 CFR part 340—Priority Use and Allocation of Shipping Services, Containers and Chassis, and Port Facilities and Services for National Security and National Defense Related Operations

46 CFR part 345—Restrictions Upon the Transfer or Change in Use or in Terms Governing Utilization of Port Facilities

46 CFR part 346—Federal Port Controllers

46 CFR part 347—Operating Contract

46 CFR part 381—Cargo Preference—U.S.-Flag Vessels

46 CFR part 382—Determination of Fair and Reasonable Rates for the Carriage of Bulk and Packaged Preference Cargoes on U.S.-Flag Commercial Vessels

Pipeline and Hazardous Materials Safety Administration (PHMSA)

Section 610 and Other Reviews

Year | Regulations to be reviewed | Analysis year | Review year
1 | 49 CFR part 178 | 2018 | 2019
2 | 49 CFR parts 178 through 180 | 2019 | 2020
3 | 49 CFR parts 172 and 175 | 2020 | 2021
4 | 49 CFR part 171, sections 171.15 and 171.16 | 2021 | 2022
5 | 49 CFR parts 106, 107, 171, 190, and 195 | 2022 | 2023
6 | 49 CFR parts 174, 177, and 199 | 2023 | 2024
7 | 49 CFR parts 176, 191 and 192 | 2024 | 2025
8 | 49 CFR parts 172 and 178 | 2025 | 2026
9 | 49 CFR parts 172, 173, 174, 176, 177, and 193 | 2026 | 2027
10 | 49 CFR parts 173 and 194 | 2027 | 2028

Year 10 (Fall 2018) List of Rules Analyzed and a Summary of Results

49 CFR part 173—Shippers—General Requirements for Shipments and Packaging

• Section 610: PHMSA conducted a review of this part and found no SEISNOSE.

• General: PHMSA has reviewed this part and found that while the part does not have a SEISNOSE, it could be streamlined to reflect new technologies and harmonize with certain international references. Therefore, even though the review indicated that the economic impact on small entities is not significant, PHMSA has initiated multiple new deregulatory rulemakings to reduce the compliance burdens of part 173. Further, PHMSA's plain language review of this part indicates no need for substantial revision. Where confusing or wordy language has been identified, PHMSA plans to propose revisions in the upcoming biennial international harmonization rulemaking or other deregulatory rulemakings.

For example, the 2137-AF32 rulemaking action is part of PHMSA's ongoing biennial process to harmonize the HMR with international regulations and standards. Federal law and policy strongly favor the harmonization of domestic and international standards for hazardous materials transportation. The Federal hazardous materials transportation law (Federal hazmat law; 49 U.S.C. 5101 et seq.) directs PHMSA to participate in relevant international standard-setting bodies and promotes consistency of the HMR with international transport standards to the extent practicable. Federal hazmat law permits PHMSA to depart from international standards where appropriate, including to promote safety or other overriding public interests. However, Federal hazmat law otherwise encourages domestic and international harmonization (see 49 U.S.C. 5120).

Harmonization facilitates international trade by minimizing the costs and other burdens of complying with multiple or inconsistent safety requirements for transportation of hazardous materials. Safety is enhanced by creating a uniform framework for compliance, and as the volume of hazardous materials transported in international commerce continues to grow, harmonization becomes increasingly important.

The impact that the 2137-AF32 rulemaking will have on small entities is not expected to be significant. The rulemaking will clarify provisions based on PHMSA's initiatives and correspondence with the regulated community and domestic and international stakeholders. The changes are generally intended to provide relief and, as a result, positive economic benefits to shippers, carriers, and packaging manufacturers and testers, including small entities.

49 CFR part 194—Response Plans for Onshore Oil Pipelines

• Section 610: PHMSA conducted a Section 610 review of this part and has initiated a regulatory reform rulemaking that includes provisions that are expected to reduce the compliance burden of part 194. The rulemaking is considered a deregulatory action that is expected to have the net effect of streamlining the program requirements, established in response to the Oil Pollution Act of 1990, by targeting the highest risk locations. The revisions are expected to clarify that part 194 is focused on hazardous liquid pipelines that could affect navigable waters and to create a new harm category for lower-risk areas.

• General: This part contains requirements for oil spill response plans to reduce the environmental impact of oil discharged from onshore oil pipelines. The regulation under this part is cost effective and imposes the least burden.

Year 1 (Fall 2018) List of Rules That Will Be Analyzed During the Next Year

49 CFR part 178—Specifications for Packaging

Saint Lawrence Seaway Development Corporation

Section 610 and Other Reviews

Year | Regulations to be reviewed | Analysis year | Review year
1 | * 33 CFR parts 401 through 403 | 2018 | 2019
* The review for these regulations is recurring each year of the 10-year review cycle (currently 2018 through 2027).

Year 1 (Fall 2018) List of Rules That Will Be Analyzed During the Next Year

33 CFR part 401—Seaway Regulations and Rules

33 CFR part 402—Tariff of Tolls

33 CFR part 403—Rules of Procedure of the Joint Tolls Review Board

Office of the Secretary—Proposed Rule Stage
Sequence No. | Title | Regulation Identifier No.
327 | + Defining Unfair or Deceptive Practices | 2105-AE72
328 | + Processing Buy America Waivers Based on Non availability (Section 610 Review) (Reg Plan Seq No. 104) | 2105-AE79
+ DOT-designated significant regulation.
References in boldface appear in The Regulatory Plan in part II of this issue of the Federal Register.

Federal Aviation Administration—Prerule Stage
Sequence No. | Title | Regulation Identifier No.
329 | + Applying the Flight, Duty, and Rest Rules of 14 CFR Part 135 to Tail-End Ferry Operations (FAA Reauthorization) | 2120-AK26
+ DOT-designated significant regulation.

Federal Aviation Administration—Proposed Rule Stage
Sequence No. | Title | Regulation Identifier No.
330 | Drug and Alcohol Testing of Certain Maintenance Provider Employees Located Outside of the United States | 2120-AK09
331 | + Applying the Flight, Duty, and Rest Requirements to Ferry Flights That Follow Domestic, Flag, or Supplemental All-Cargo Operations (Reauthorization) | 2120-AK22
332 | + Pilot Records Database (HR 5900) | 2120-AK31
333 | + Aircraft Registration and Airmen Certification Fees | 2120-AK37
334 | + Requirements to File Notice of Construction of Meteorological Evaluation Towers and Other Renewable Energy Projects (Section 610 Review) | 2120-AK77
335 | + Operations of Small Unmanned Aircraft Over People | 2120-AK85
+ DOT-designated significant regulation.

Federal Aviation Administration—Final Rule Stage
Sequence No. | Title | Regulation Identifier No.
336 | + Airport Safety Management System | 2120-AJ38
337 | + Registration and Marking Requirements for Small Unmanned Aircraft (Reg Plan Seq No. 105) | 2120-AK82
+ DOT-designated significant regulation.
References in boldface appear in The Regulatory Plan in part II of this issue of the Federal Register.

Federal Aviation Administration—Long-Term Actions
Sequence No. | Title | Regulation Identifier No.
338 | + Regulation of Flight Operations Conducted by Alaska Guide Pilots | 2120-AJ78
339 | + Helicopter Air Ambulance Pilot Training and Operational Requirements (HAA II) (FAA Reauthorization) | 2120-AK57
+ DOT-designated significant regulation.

Federal Motor Carrier Safety Administration—Proposed Rule Stage
Sequence No. | Title | Regulation Identifier No.
340 | Incorporation by Reference; North American Standard Out-of-Service Criteria; Hazardous Materials Safety Permits (Section 610 Review) | 2126-AC01
341 | Controlled Substances and Alcohol Testing: State Driver's Licensing Agency Downgrade of Commercial Driver's License (Section 610 Review) | 2126-AC11

Federal Motor Carrier Safety Administration—Final Rule Stage
Sequence No. | Title | Regulation Identifier No.
342 | Commercial Learner's Permit Validity (Section 610 Review) | 2126-AB98

Federal Motor Carrier Safety Administration—Long-Term Actions
Sequence No. | Title | Regulation Identifier No.
343 | + Safety Monitoring System and Compliance Initiative for Mexico-Domiciled Motor Carriers Operating in the United States | 2126-AA35
+ DOT-designated significant regulation.

Federal Railroad Administration—Final Rule Stage
Sequence No. | Title | Regulation Identifier No.
344 | + Passenger Equipment Safety Standards Amendments (Reg Plan Seq No. 108) | 2130-AC46
+ DOT-designated significant regulation.
References in boldface appear in The Regulatory Plan in part II of this issue of the Federal Register.

Federal Railroad Administration—Long-Term Actions
Sequence No. | Title | Regulation Identifier No.
345 | + Train Crew Staffing and Location | 2130-AC48
+ DOT-designated significant regulation.

Saint Lawrence Seaway Development Corporation—Long-Term Actions
Sequence No. | Title | Regulation Identifier No.
346 | Seaway Regulations and Rules: Periodic Update, Various Categories (Rulemaking Resulting From a Section 610 Review) | 2135-AA45
347 | Tariff of Tolls (Rulemaking Resulting From a Section 610 Review) | 2135-AA46

Pipeline and Hazardous Materials Safety Administration—Proposed Rule Stage
Sequence No. | Title | Regulation Identifier No.
348 | + Pipeline Safety: Amendments to Parts 192 and 195 to Require Valve Installation and Minimum Rupture Detection Standards | 2137-AF06
+ DOT-designated significant regulation.

Pipeline and Hazardous Materials Safety Administration—Final Rule Stage
Sequence No. | Title | Regulation Identifier No.
349 | + Pipeline Safety: Safety of Hazardous Liquid Pipelines (Reg Plan Seq No. 111) | 2137-AE66
350 | + Pipeline Safety: Issues Related to the Use of Plastic Pipe in Gas Pipeline Industry | 2137-AE93
351 | + Hazardous Materials: Oil Spill Response Plans and Information Sharing for High-Hazard Flammable Trains (FAST Act) (Reg Plan Seq No. 113) | 2137-AF08
+ DOT-designated significant regulation.
References in boldface appear in The Regulatory Plan in part II of this issue of the Federal Register.

DEPARTMENT OF TRANSPORTATION (DOT)

Office of the Secretary (OST)

Proposed Rule Stage

327. +Defining Unfair or Deceptive Practices

E.O. 13771 Designation: Deregulatory.

Legal Authority: 49 U.S.C. 41712

Abstract: This rulemaking would define the phrase “unfair or deceptive practice” found in the Department's aviation consumer protection statute. The Department's statute is modeled after a similar statute granting the Federal Trade Commission (FTC) the authority to regulate unfair or deceptive practices. Using the FTC's policy statements as a guide, the Department has found a practice to be unfair if it causes or is likely to cause substantial harm, the harm cannot reasonably be avoided, and the harm is not outweighed by any countervailing benefits to consumers or to competition. Likewise, the Department has found a practice to be deceptive if it misleads or is likely to mislead a consumer acting reasonably under the circumstances with respect to a material issue (one that is likely to affect the consumer's decision with regard to a product or service). This rulemaking would codify the Department's existing interpretation of “unfair or deceptive practice” and seek comment on whether any changes are needed. The rulemaking is not expected to impose monetary costs, and will benefit regulated entities by providing a clearer understanding of the Department's interpretation of the statute.

Timetable:

Action | Date | FR Cite
NPRM | 03/00/19

Regulatory Flexibility Analysis Required: Yes.

Agency Contact: Blane A. Workie, Assistant General Counsel, Department of Transportation, Office of the Secretary, 1200 New Jersey Avenue SE, Washington, DC 20590, Phone: 202-366-9342, Fax: 202-366-7153, Email: blane.workie@ost.dot.gov.

RIN: 2105-AE72

328. • +Processing Buy America Waivers Based on Non Availability (Section 610 Review)

Regulatory Plan: This entry is Seq. No. 104 in part II of this issue of the Federal Register.

RIN: 2105-AE79

BILLING CODE 4910-9X-P

DEPARTMENT OF TRANSPORTATION (DOT)

Federal Aviation Administration (FAA)

Prerule Stage

329. +Applying the Flight, Duty, and Rest Rules of 14 CFR Part 135 to Tail-End Ferry Operations (FAA Reauthorization)

E.O. 13771 Designation: Regulatory.

Legal Authority: 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable:

Action | Date | FR Cite
ANPRM | 01/00/19

Regulatory Flexibility Analysis Required: Yes.

Agency Contact: Dale Roberts, Department of Transportation, Federal Aviation Administration, 800 Independence Ave. SW, Washington, DC 20591, Phone: 202-267-5749, Email: dale.roberts@faa.gov.

RIN: 2120-AK26

DEPARTMENT OF TRANSPORTATION (DOT)

Federal Aviation Administration (FAA)

Proposed Rule Stage

330. Drug and Alcohol Testing of Certain Maintenance Provider Employees Located Outside of the United States

E.O. 13771 Designation: Fully or Partially Exempt.

Legal Authority: 14 CFR; 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This action is necessary to increase the level of safety of the flying public. This rulemaking is a statutory mandate under section 308(d) of the FAA Modernization and Reform Act of 2012 (Pub. L. 112-95).

Timetable:

Action | Date | FR Cite
ANPRM | 03/17/14 | 79 FR 14621
Comment Period Extended | 05/01/14 | 79 FR 24631
ANPRM Comment Period End | 05/16/14 |
Comment Period End | 07/17/14 |
NPRM | 12/00/18

Regulatory Flexibility Analysis Required: Yes.

Agency Contact: Vicky Dunne, Department of Transportation, Federal Aviation Administration, 800 Independence Ave. SW, Washington, DC 20591, Phone: 202-267-8522, Email: vicky.dunne@faa.gov.

RIN: 2120-AK09

331. +Applying the Flight, Duty, and Rest Requirements to Ferry Flights That Follow Domestic, Flag, or Supplemental All-Cargo Operations (Reauthorization)

E.O. 13771 Designation: Regulatory.

Legal Authority: 49 U.S.C. 106(g); 49 U.S.C. 40113; 49 U.S.C. 40119; 49 U.S.C. 41706; 49 U.S.C. 44101; 49 U.S.C. 44701; 49 U.S.C. 44702; 49 U.S.C. 44705; 49 U.S.C. 44709 to 44711; 49 U.S.C. 44713; 49 U.S.C. 44716; 49 U.S.C. 44717

Abstract: This rulemaking would apply the flight, duty, and rest requirements for domestic, flag and supplemental operations to ferry flights that follow domestic, flag or supplemental all-cargo operations. A ferry flight that follows a domestic, flag or supplemental all-cargo operation would be subject to the same flight, duty, and rest rules as the all-cargo operation it follows. This rule is necessary as it would make part 121 flight, duty, and rest limits applicable to tail-end ferry flights that follow an all-cargo flight.

Timetable:

Action | Date | FR Cite
NPRM | 05/00/19

Regulatory Flexibility Analysis Required: Yes.

Agency Contact: Dale Roberts, Department of Transportation, Federal Aviation Administration, 800 Independence Ave. SW, Washington, DC 20591, Phone: 202-267-5749, Email: dale.roberts@faa.gov.

RIN: 2120-AK22

332. +Pilot Records Database (HR 5900)

E.O. 13771 Designation: Regulatory.

Legal Authority: 49 U.S.C. 106(g); 49 U.S.C. 1155; 49 U.S.C. 40103; 49 U.S.C. 40113; 49 U.S.C. 40119; 49 U.S.C. 40120; 49 U.S.C. 41706; 49 U.S.C. 44101; 49 U.S.C. 44111; 49 U.S.C. 44701 to 44705; 49 U.S.C. 44709 to 44713; 49 U.S.C. 44715 to 44717; 49 U.S.C. 44722; 49 U.S.C. 45101 to 45105; 49 U.S.C. 46105; 49 U.S.C. 46306; 49 U.S.C. 46315; 49 U.S.C. 46316; 49 U.S.C. 46504; 49 U.S.C. 46507; 49 U.S.C. 47122; 49 U.S.C. 47508; 49 U.S.C. 47528 to 47531

Abstract: This rulemaking would implement a Pilot Records Database as required by Public Law 111-216 (Aug. 1, 2010). Section 203 amends the Pilot Records Improvement Act by requiring the FAA to create a pilot records database that contains various types of pilot records. These records would be provided by the FAA, air carriers, and other persons who employ pilots. The FAA must maintain these records until it receives notice that a pilot is deceased. Air carriers would use this database to perform a record check on a pilot prior to making a hiring decision.

Timetable:

Action | Date | FR Cite
NPRM | 05/00/19

Regulatory Flexibility Analysis Required: Yes.

Agency Contact: Christopher Morris, Department of Transportation, Federal Aviation Administration, 6500 S MacArthur Blvd., Oklahoma City, OK 73169, Phone: 405-954-4646, Email: christopher.morris@faa.gov.

RIN: 2120-AK31

333. +Aircraft Registration and Airmen Certification Fees

E.O. 13771 Designation: Other.

Legal Authority: 31 U.S.C. 9701; 4 U.S.T. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Pub. L. 108-297, 118 Stat. 1095

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
NPRM | 01/00/19

Regulatory Flexibility Analysis Required: Yes.

Agency Contact: Isra Raza, Department of Transportation, Federal Aviation Administration, 800 Independence Ave. SW, Washington, DC 20591, Phone: 202-267-8994, Email: isra.raza@faa.gov.

RIN: 2120-AK37

334. +Requirements To File Notice of Construction of Meteorological Evaluation Towers and Other Renewable Energy Projects (Section 610 Review)

E.O. 13771 Designation: Regulatory.

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable:

Action | Date | FR Cite
NPRM | 06/00/19

Regulatory Flexibility Analysis Required: No.

Agency Contact: Sheri Edgett-Baron, Air Traffic Service, Department of Transportation, Federal Aviation Administration, 800 Independence Avenue SW, Washington, DC 20591, Phone: 202 267-9354.

RIN: 2120-AK77

335. +Operations of Small Unmanned Aircraft Over People

E.O. 13771 Designation: Deregulatory.

Legal Authority: 49 U.S.C. 106(f); 49 U.S.C. 40101; 49 U.S.C. 40103(b); 49 U.S.C. 44701(a)(5); Pub. L. 112-95, sec. 333

Abstract: This rulemaking would address the performance-based standards and means-of-compliance for operation of small unmanned aircraft systems (sUAS) over people not directly participating in the operation or not under a covered structure or inside a stationary vehicle that can provide reasonable protection from a falling small unmanned aircraft. This rule would provide relief from certain operational restrictions implemented in the Operation and Certification of Small Unmanned Aircraft Systems final rule (RIN 2120-AJ60).

Timetable:

Action | Date | FR Cite
NPRM | 10/00/18

Regulatory Flexibility Analysis Required: Yes.

Agency Contact: Guido Hassig, Department of Transportation, Federal Aviation Administration, 1 Airport Way, Rochester, NY 14624, Phone: 585-436-3880, Email: guido.hassig@faa.gov.

RIN: 2120-AK85

DEPARTMENT OF TRANSPORTATION (DOT)

Federal Aviation Administration (FAA)

Final Rule Stage

336. +Airport Safety Management System

E.O. 13771 Designation: Regulatory.

Legal Authority: 49 U.S.C. 44706; 49 U.S.C. 106(g); 49 U.S.C. 40113; 49 U.S.C. 44701 to 44706; 49 U.S.C. 44709; 49 U.S.C. 44719

Abstract: This rulemaking would require certain airport certificate holders to develop, implement, maintain, and adhere to a safety management system (SMS) for its aviation related activities. An SMS is a formalized approach to managing safety by developing an organization-wide safety policy, developing formal methods of identifying hazards, analyzing and mitigating risk, developing methods for ensuring continuous safety improvement, and creating organization-wide safety promotion strategies.

Timetable:

Action | Date | FR Cite
NPRM | 10/07/10 | 75 FR 62008
NPRM Comment Period Extended | 12/10/10 | 75 FR 76928
NPRM Comment Period End | 01/05/11
End of Extended Comment Period | 03/07/11
Second Extension of Comment Period | 03/07/11 | 76 FR 12300
End of Second Extended Comment Period | 07/05/11
Second NPRM | 07/14/16 | 81 FR 45871
Second NPRM Comment Period End | 09/12/16
Final Rule | 12/00/18

Regulatory Flexibility Analysis Required: Yes.

Agency Contact: Keri Lyons, Department of Transportation, Federal Aviation Administration, 800 Independence Ave. SW, Washington, DC 20591, Phone: 202-267-8972, Email: keri.lyons@faa.gov.

RIN: 2120-AJ38

337. +Registration and Marking Requirements for Small Unmanned Aircraft

Regulatory Plan: This entry is Seq. No. 105 in part II of this issue of the Federal Register.

RIN: 2120-AK82

DEPARTMENT OF TRANSPORTATION (DOT)

Federal Aviation Administration (FAA)

Long-Term Actions

338. +Regulation of Flight Operations Conducted by Alaska Guide Pilots

E.O. 13771 Designation: Regulatory.

Legal Authority: 49 U.S.C. 106(g) ; 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Statue 1180; P.L. 106-181, Sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century, (Pub. L. 106-181).

Timetable: Next Action Undetermined.

Regulatory Flexibility Analysis Required: Yes.

Agency Contact: Jeff Smith, Department of Transportation, Federal Aviation Administration, 800 Independence Avenue SW, Washington, DC 20785, Phone: 202 385-9615, Email: jeffrey.smith@faa.gov.

RIN: 2120-AJ78

339. +Helicopter Air Ambulance Pilot Training and Operational Requirements (HAA II) (FAA Reauthorization)

E.O. 13771 Designation: Regulatory.

Legal Authority: 49 U.S.C. 106(f); 49 U.S.C. 106(g); 49 U.S.C. 40113; 49 U.S.C. 41706; 49 U.S.C. 44701; 49 U.S.C. 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as standards for the use of flight simulation training devices and line-oriented flight training. Additionally, it would establish requirements for the use of safety equipment for flight crewmembers and flight nurses. These changes will aide in the increase in aviation safety and increase survivability in the event of an accident. Without these changes, the Helicopter Air Ambulance industry may continue to see the unacceptable high rate of aircraft accidents. This rulemaking is a statutory mandate under section 306(e) of the FAA Modernization and Reform Act of 2012 (Pub. L. 112-95).

Timetable: Next Action Undetermined.

Regulatory Flexibility Analysis Required: Yes.

Agency Contact: Chris Holliday, Department of Transportation, Federal Aviation Administration, 801 Pennsylvania Ave. NW, Washington, DC 20024, Phone: 202-267-4552, Email: chris.holliday@faa.gov.

RIN: 2120-AK57

BILLING CODE 4910-13-P

DEPARTMENT OF TRANSPORTATION (DOT)

Federal Motor Carrier Safety Administration (FMCSA)

Proposed Rule Stage

340. Incorporation by Reference; North American Standard Out-of-Service Criteria; Hazardous Materials Safety Permits (Section 610 Review)

E.O. 13771 Designation: Fully or Partially Exempt.

Legal Authority: 49 U.S.C. 5105; 49 U.S.C. 5109

Abstract: This action will update an existing Incorporation by Reference (by the Commercial Vehicle Safety Alliance) of the North American Standard Out-of-Service Criteria and Level VI Inspection Procedures and Out-of-Service for Commercial Highway Vehicles Transporting Transuranics and Highway Route Controlled Quantities of Radioactive Materials as defined in 49 CFR part 173.403.

Timetable:

Action | Date | FR Cite
NPRM | 10/00/18 |

Regulatory Flexibility Analysis Required: No.

Agency Contact: Stephanie Dunlap, Department of Transportation, Federal Motor Carrier Safety Administration, 1200 New Jersey Avenue SE, Washington, DC 20590, Phone: 202 366-3536, Email: stephanie.dunlap@dot.gov.

RIN: 2126-AC01

341. Controlled Substances and Alcohol Testing: State Driver's Licensing Agency Downgrade of Commercial Driver's License (Section 610 Review)

E.O. 13771 Designation: Fully or Partially Exempt.

Legal Authority: 49 U.S.C. 31136(a); 49 U.S.C. 31305(a)

Abstract: The Commercial Driver's License Drug and Alcohol Clearinghouse (Clearinghouse) final rule (81 FR 87686 (December 5, 2016) requires State Driver's Licensing Agencies (SDLAs) to check the Clearinghouse before issuing, renewing, transferring, or upgrading a commercial driver's license (CDL) to determine whether the driver is qualified to operate a commercial motor vehicle. FMCSA proposes to require State Driver's Licensing Agencies (SDLAs) to remove the commercial learner's permit (CLP) or commercial driver's license (CDL) privilege from the driver license of individuals who, under current regulations, are prohibited from operating a commercial motor vehicle (CMV) due to controlled substance (drug) and alcohol program violations. At a minimum, States would be required to downgrade the driver's license by changing the commercial status from “licensed” to “eligible” on the CDLIS driver record. Under the proposed rule, States could not restore the CLP or CDL privilege to the license until the driver completes the return-to-duty (RTD) requirements that would allow the resumption of safety-sensitive functions, such as operating a CMV. SDLAs would rely on applicable State law and procedures to accomplish the downgrade and any subsequent reinstatement of the CLP or CDL privilege. In addition, under this proposal, SDLAs could not issue, renew, upgrade, or transfer the CDL, or issue, renew, or upgrade the CLP, of any driver who is prohibited from operating a CMV due to drug and alcohol program violations. This Notice of Proposed Rulemaking (NPRM) will improve roadway safety by helping to ensure that CLP and CDL holders who engage in prohibited drug or alcohol-related conduct complete the necessary RTD requirements before resuming operation of a CMV on public roads. This NPRM does not propose any other changes to the Clearinghouse final rule, nor does it propose any changes to the drug and alcohol testing requirements in part 382 and part 40.

Timetable:

Action | Date | FR Cite
NPRM | 12/00/18 |

Regulatory Flexibility Analysis Required: No.

Agency Contact: Juan Moya, Department of Transportation, Federal Motor Carrier Safety Administration, 1200 New Jersey Ave. SE, Washington, DC 20590, Phone: 202-366-4844, Email: Juan.Moya@dot.gov.

RIN: 2126-AC11

DEPARTMENT OF TRANSPORTATION (DOT)

Federal Motor Carrier Safety Administration (FMCSA)

Final Rule Stage

342. Commercial Learner's Permit Validity (Section 610 Review)

E.O. 13771 Designation: Deregulatory.

Legal Authority: 49 U.S.C. 31305; 49 U.S.C. 31308

Abstract: This rulemaking would amend Commercial Driver's License (CDL) regulations to allow a commercial learner's permit to be issued for 1 year, without renewal. This rule would not require a State to revise its current CLP issuance practices, unless it chooses to do so. This change would reduce costs to CDL applicants who are unable to complete the required training and testing within the current validity period, with no expected negative safety benefits.

Timetable:

Action | Date | FR Cite
NPRM | 06/12/17 | 82 FR 26888
NPRM Comment Period End | 08/11/17 |
Final Rule | 10/00/18 |

Regulatory Flexibility Analysis Required: No.

Agency Contact: Thomas Yager, Driver and Carrier Operations Division, Department of Transportation, Federal Motor Carrier Safety Administration, 1200 New Jersey Avenue SE, Washington, DC 20590, Phone: 202 366-4325, Email: tom.yager@dot.gov.

RIN: 2126-AB98

DEPARTMENT OF TRANSPORTATION (DOT)

Federal Motor Carrier Safety Administration (FMCSA)

Long-Term Actions

343. +Safety Monitoring System and Compliance Initiative for Mexico-Domiciled Motor Carriers Operating in the United States

E.O. 13771 Designation: Fully or Partially Exempt.

Legal Authority: Pub. L. 107-87, sec 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY 2002 DOT Appropriations Act. On January 16, 2003, the Ninth Circuit Court of Appeals remanded this rule, along with two other NAFTA-related rules, to the Agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01 |
Interim Final Rule | 03/19/02 | 67 FR 12758
Interim Final Rule Comment Period End | 04/18/02 |
Interim Final Rule Effective | 05/03/02 |
Notice of Intent To Prepare an EIS | 08/26/03 | 68 FR 51322
EIS Public Scoping Meetings | 10/08/03 | 68 FR 58162
Next Action Undetermined |  |

Regulatory Flexibility Analysis Required: Yes.

Agency Contact: Dolores Macias, Acting Division Chief, Department of Transportation, Federal Motor Carrier Safety Administration, 1200 New Jersey Ave. SE, Washington, DC 20590, Phone: 202 366-2995, Email: dolores.macias@dot.gov.

RIN: 2126-AA35

BILLING CODE 4910-EX-P

DEPARTMENT OF TRANSPORTATION (DOT)

Federal Railroad Administration (FRA)

Final Rule Stage

344. +Passenger Equipment Safety Standards Amendments

Regulatory Plan: This entry is Seq. No. 108 in part II of this issue of the Federal Register.

RIN: 2130-AC46

DEPARTMENT OF TRANSPORTATION (DOT)

Federal Railroad Administration (FRA)

Long-Term Actions

345. +Train Crew Staffing and Location

E.O. 13771 Designation: Regulatory.

Legal Authority: 28 U.S.C. 2461, note; 49 CFR 1.89; 49 U.S.C. 20103; 49 U.S.C. 20107; 49 U.S.C. 21301 and 21302; 49 U.S.C. 21304

Abstract: This rule would establish requirements to appropriately address known safety risks posed by train operations that use fewer than two crewmembers. FRA is considering options based on public comments on the proposed rule and other information.

Timetable:

Action | Date | FR Cite
NPRM | 03/15/16 | 81 FR 13918
NPRM Comment Period End | 05/16/16 |
Next Action Undetermined |  |

Regulatory Flexibility Analysis Required: Yes.

Agency Contact: Kathryn Gresham, Trial Attorney, Department of Transportation, Federal Railroad Administration, 1200 New Jersey Avenue SE, Washington, DC 20590, Phone: 202 493-6063, Email: kathryn.gresham@dot.gov.

RIN: 2130-AC48

BILLING CODE 4910-06-P

DEPARTMENT OF TRANSPORTATION (DOT)

Saint Lawrence Seaway Development Corporation (SLSDC)

Long-Term Actions

346. • Seaway Regulations and Rules: Periodic Update, Various Categories (Rulemaking Resulting From a Section 610 Review)

E.O. 13771 Designation: Not subject to, not significant.

Legal Authority: 33 U.S.C. 981 et seq.

Abstract: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories.

Timetable: Next Action Undetermined.

Regulatory Flexibility Analysis Required: No.

Agency Contact: Carrie Lavigne, Department of Transportation, Saint Lawrence Seaway Development Corporation, 1200 New Jersey Ave. SE, Washington, DC 20590, Phone: 315-764-3231, Email: Carrie.Mann@dot.gov.

RIN: 2135-AA45

347. • Tariff of Tolls (Rulemaking Resulting From a Section 610 Review)

E.O. 13771 Designation: Not subject to, not significant.

Legal Authority: 33 U.S.C. 981 et seq.

Abstract: The Saint Lawrence Seaway Development Corporation (SLSDC) and the St. Lawrence Seaway Management Corporation (SLSMC) of Canada, under international agreement, jointly publish and presently administer the St. Lawrence Seaway Tariff of Tolls in their respective jurisdictions. The Tariff sets forth the level of tolls assessed on all commodities and vessels transiting the facilities operated by the SLSDC and the SLSMC.

Timetable: Next Action Undetermined.

Regulatory Flexibility Analysis Required: No.

Agency Contact: Carrie Lavigne, Department of Transportation, Saint Lawrence Seaway Development Corporation, 1200 New Jersey Ave. SE, Washington, DC 20590, Phone: 315-764-3231, Email: Carrie.Mann@dot.gov.

RIN: 2135-AA46

BILLING CODE 4910-61-P

DEPARTMENT OF TRANSPORTATION (DOT)

Pipeline and Hazardous Materials Safety Administration (PHMSA)

Proposed Rule Stage

348. +Pipeline Safety: Amendments to Parts 192 and 195 To Require Valve Installation and Minimum Rupture Detection Standards

E.O. 13771 Designation: Regulatory.

Legal Authority: 49 U.S.C. 60101 et seq.

Abstract: PHMSA is proposing to revise the Pipeline Safety Regulations applicable to newly constructed or entirely replaced natural gas transmission and hazardous liquid pipelines to improve rupture mitigation and shorten pipeline segment isolation times in high consequence and select non-high consequence areas. The proposed rule defines certain pipeline events as “ruptures” and outlines certain performance standards related to rupture identification and pipeline segment isolation. PHMSA also proposes specific valve maintenance and inspection requirements, and 9-1-1 notification requirements to help operators achieve better rupture response and mitigation. These proposals address Congressional mandates, incorporate recommendations from the National Transportation Safety Board, and are necessary to reduce the serious consequences of large-volume, uncontrolled releases of natural gas and hazardous liquids.

Timetable:

Action | Date | FR Cite
NPRM | 01/00/19 |

Regulatory Flexibility Analysis Required: Yes.

Agency Contact: Robert Jagger, Technical Writer, Department of Transportation, Pipeline and Hazardous Materials Safety Administration, 1200 New Jersey Avenue, Washington, DC 20590, Phone: 202-366-4595, Email: robert.jagger@dot.gov.

RIN: 2137-AF06

DEPARTMENT OF TRANSPORTATION (DOT)

Pipeline and Hazardous Materials Safety Administration (PHMSA)

Final Rule Stage

349. +Pipeline Safety: Safety of Hazardous Liquid Pipelines

Regulatory Plan: This entry is Seq. No. 111 in part II of this issue of the Federal Register.

RIN: 2137-AE66

350. +Pipeline Safety: Issues Related to the Use of Plastic Pipe in Gas Pipeline Industry

E.O. 13771 Designation: Deregulatory.

Legal Authority: 49 U.S.C. 60101 et seq.

Abstract: PHMSA is amending the Federal Pipeline Safety Regulations that govern the use of plastic piping systems in the transportation of natural and other gas. These amendments are necessary to enhance pipeline safety, adopt innovative technologies and best practices, and respond to petitions from stakeholders. The amendments include an increased design factor for polyethylene (PE) pipe, stronger mechanical fitting requirements, new and updated riser standards, new accepted uses of Polyamide-11 (PA-11) thermoplastic pipe, authorization to use Polyamide-12 (PA-12) thermoplastic pipe, and new or updated consensus standards for pipe, fittings, and other components.

Timetable:

Action | Date | FR Cite
NPRM | 05/21/15 | 80 FR 29263
NPRM Comment Period End | 07/31/15 |
Final Rule | 10/00/18 |

Regulatory Flexibility Analysis Required: Yes.

Agency Contact: Cameron H. Satterthwaite, Transportation Regulations Specialist, Department of Transportation, Pipeline and Hazardous Materials Safety Administration, 1200 New Jersey Avenue SE, Washington, DC 20590, Phone: 202-366-8553, Email: cameron.satterthwaite@dot.gov.

RIN: 2137-AE93

351. +Hazardous Materials: Oil Spill Response Plans and Information Sharing for High-Hazard Flammable Trains (Fast Act)

Regulatory Plan: This entry is Seq. No. 113 in part II of this issue of the Federal Register.

RIN: 2137-AF08

[FR Doc. 2018-24091 Filed 11-15-18; 8:45 am]

BILLING CODE 4910-60-P